DEPARTMENT OF JUSTICE

[AAG/A Order No. 239-2001]

Privacy Act of 1974; System of Records

Pursuant to the provisions of the Privacy Act of 1974 (5 U.S.C. 552a), the Immigration and Naturalization Service (INS), Department of Justice, proposes to modify the following system of records-previously published December 11, 1987 (52 FR 47258):

Orphan Petitioner Index and Files, JUSTICE/INS-007

INS proposes to: (1): Add another system location; (2) modify the “Authority for Maintenance of Records” section to reflect changes as required by the Intercountry Adoption Act of 2000; and (3) add new routine use disclosures (i.e., C, G, H and I). Other minor corrections and edits have also been made to reflect the current description of this system of records.

In accordance with 5 U.S.C. 552a(e)(4) and (11), the public is given a 30-day period in which to comment on the modified system and the routine use disclosures. The Office of Management and Budget (OMB), which has oversight responsibilities under the Act, requires a 40-day period in which to conclude its review of the system.

Therefore, please submit any comments by August 27, 2001. The public, OMB, and the Congress are invited to send written comments to Mary Cahill, Management Analyst, Management and Planning Staff, Justice Management Division, Department of Justice, Washington, DC 20530 (Room 1400, National Place Building).

In accordance with 5 U.S.C. 552a(r), the Department has provided a report to OMB and the Congress on the proposed modification.

Dated: July 16, 2001.
Janis A. Sposato,
Acting Assistant Attorney General for Administration.

JUSTICE/INS-007

SYSTEM NAME:

Orphan Petitioner Index and Files.

SYSTEM LOCATION:

Headquarters, District offices and suboffices of the Immigration and Naturalization Service (Service) in the United States and foreign countries, as detailed in JUSTICE/INS-999, last published in the Federal Register on April 13, 1999 (64 FR 18052).

CATEGORIES OF INDIVIDUALS COVERED BY THE SYSTEM:

Individuals who are prospective petitioners or who have filed an application for Advance Processing of Orphan Petition under the Immigration and Nationality Act, as amended.

CATEGORIES OF RECORDS IN THE SYSTEM:

The system contains form I-600A, Application for Advance Processing of Orphan Petition, filed for advance processing of orphan petitions by prospective adoptive parent(s); documentation of prospective adoptive parent(s)' United States citizenship and marital status, agency responses indicating whether prospective adoptive parent(s) have any arrest records; and home studies which include statements of financial ability and other elements that relate to the ability of the prospective adoptive parents to provide proper care to beneficiary orphans.

AUTHORITY FOR MAINTENANCE OF THE SYSTEM:

8 U.S.C. 1103 and 1154; and 42 U.S.C. 14901.

ROUTINE USES OF RECORDS MAINTAINED IN THE SYSTEM, INCLUDING CATEGORIES OF USERS AND THE PURPOSE OF SUCH USE:

Information in the system will be used by employees of the Immigration and Naturalization Service to determine the status of pending requests or petitions, to locate related files and other records promptly, and to determine the suitability of prospective petitioners as adoptive parents. Information regarding the status and progress of cases and the suitability of prospective petitioners as adoptive parents may be disseminated to other components of the Department of Justice, Members of Congress, and the President. In addition:

A. Relevant information from this system may be referred to the Department of State in the processing of petitions or issuance of visas for benefits under the Immigration and Nationality Act, as amended.

B. Information from this system may be referred to officials of other federal, state and local government agencies and adoption agencies and social workers to elicit information required for making a final determination of the petitioner's ability to care for a beneficiary orphan.

C. To an attorney or representative who is acting on behalf of an individual covered by this system of records as defined in 8 CFR 1.1(j) in conjunction with any proceeding before the Immigration and Naturalization Service or the Executive Office for Immigration Review.

D. To the news media and the public pursuant to 28 CFR 50.2 unless it is determined that release of the specific information in the context of a particular case would constitute an unwarranted invasion of personal privacy.

E. To a Member of Congress, or staff acting upon the Member's behalf, when the Member or staff requests the information on behalf of and at the request of the individual who is the subject of the record.

F. To the General Service Administration (GSA) and the National Archives and Records Administration (NARA) in records management inspections conducted under the authority of 44 U.S.C. 2904 and 2906.

G. To contractors, grantees, experts, consultants, students and others performing or working on a contract, service, grant, cooperative agreement, or other assignment for the Federal Government, when necessary to accomplish an agency function related to this system of records.

H. To a court of adjudicative body before which the appropriate DOJ component is authorized to appear when any of the following is a party to litigation or has an interest in litigation and such records are determined by the appropriate DOJ component to be arguably relevant to the litigation:

(1) The DOJ component, or any subdivision thereof, or

(2) Any employee of the DOJ in his or her official capacity, or

(3) Any employee of the DOJ in his or her individual capacity where the DOJ has agreed to represent the employee or has authorized a private attorney to represent him or her, and

(4) The United States, where the DOJ determines that the litigation is likely to affect it or any of its subdivisions.

I. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING AND DISPOSING OF RECORDS IN THE SYSTEM:

STORAGE:

Records are maintained as paper records in file folders.

RETRIEVABILITY:

Records are retrieved by the name of the petitioner.

SAFEGUARDS:

Most INS offices are located in buildings under security guard, with access limited to INS and other Federal Government employees and authorized visitors. All records are stored in spaces which are locked outside of normal office hours.

RETENTION AND DISPOSAL:

Records from the advance processing file folders are retained for one year after the completion of all advance processing. After one year the records are returned to the petitioner or the responsible state or licensed agency. Materials which cannot be returned to the petitioner or responsible state or licensed agency will be destroyed.

SYSTEM MANAGER AND ADDRESS:

Associate Commissioner, Examinations, Immigration and Naturalization Service, 425 I Street, NW, Washington, DC 20536.

NOTIFICATION PROCEDURES:

Inquiries should be addressed to the District Director or Officer in Charge of the Service office where the file is located. If the file location is not known, inquiries may be addressed to the System Manager, as noted above. To enable the Service to identify whether the system contains a record relating to an individual, the requester must provide the individual's full name, date of birth, place of birth, and a description of the subject matter.

RECORD ACCESS PROCEDURE:

A person desiring access to a record shall submit a request in writing to the agency official designated under “Notification Procedure” above. The requester must also identify the record by furnishing the information listed under that caption. If a request to access a record is made by mail, the envelope and letter shall be clearly marked “Privacy Act Request,” and a return address must be provided for transmitting any information.

CONTESTING RECORD PROCEDURE:

An individual desiring to request amendment of records maintained in this system of records should direct his or her request to the System Manager or to the appropriate FOIA/PA Officer noted in System Locations. The request should state the information being contested, the reason(s) for contesting it, and the proposed amendment thereof. Persons filing such requests should mark the envelope with the following legend “Privacy Act Amendment Request.”

RECORD SOURCE CATEGORIES:

Information in the system is obtained from requests and petitions filed by the petitioners, public and private adoption agencies and social workers; and federal, state, local and foreign government agencies.

SYSTEMS EXEMPTED FROM CERTAIN PROVISIONS OF THE ACT:

This system is exempt from subsection (d) of the Privacy Act. This exemption applies to the extent that information in this system is subject to exemption pursuant to 5 U.S.C. 552a(k)(1). INS has published implementing regulations in accordance with the requirements of 5 U.S.C. 553(b), (c) and (e) and these have been published in the Federal Register. See 28 CFR 16.99(e).

[FR Doc. 01-18792 Filed 7-26-01; 8:45 am]

BILLING CODE 4410-10-M